ENVIRONMENTAL PROTECTION AGENCY

[EPA-HQ-OPPT-2017-0320; FRL-9976-23-OEI]

Information Collection Request Submitted to OMB for Review and Approval; Comment Request; Correction of Misreported Chemical Substances on the TSCA Inventory (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): “Correction of Misreported Chemical Substances on the TSCA Inventory”. This is a request to renew the approval of an existing ICR, which is currently approved through June 30, 2018. EPA did not receive any public comments in response to the previously provided public review opportunity issued in the Federal Register of February 6, 2018. With this submission to OMB, EPA is providing an additional 30 days for public review and comment.

DATES: Additional comments may be submitted on or before July 25, 2018.

ADDRESSES: Submit your comments, referencing Docket ID No. EPA-HQ-OPPT-2017-0320, to (1) EPA online using http://www.regulations.gov (our preferred method) or by mail to: EPA Docket Center, Environmental Protection Agency, Mail Code 28221T, 1200 Pennsylvania Ave. NW, Washington, DC 20460, and (2) OMB via email to oira_submission@omb.eop.gov. Address comments to the OMB Desk Officer for EPA.

EPA's policy is that all comments received will be included in the public docket without change including any personal information provided, unless the comment includes profanity, threats, information claimed to be Confidential Business Information (CBI) or other information whose disclosure is restricted by statute.

FOR FURTHER INFORMATION CONTACT: Brandon Mullings, Environmental Assistance Division (7507-M), Office of Pollution Prevention and Toxics, Environmental Protection Agency, 1200 Pennsylvania Ave. NW, Washington, DC 20460; telephone number: (202) 564-4826; email address: mullings.brandon@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR (EPA ICR Number 1741.08, OMB Control Number 2070-0145) is currently scheduled to expire on June 30, 2018. Under OMB regulations, the Agency may continue to conduct or sponsor the collection of information while this submission is pending at OMB. Under PRA, 44 U.S.C. 3501 et seq., an agency may not conduct or sponsor, and a person is not required to respond to, a collection of information unless it displays a currently valid OMB control number. The OMB control numbers are displayed either by publication in the Federal Register or by other appropriate means, such as on the related collection instrument or form, if applicable.

Abstract: This ICR pertains to the form that the chemical industry uses exclusively in submitting requests to EPA's Office of Pollution Prevention and Toxics (OPPT) for correcting misreported chemical identities of substances listed on the Inventory. Such requests pertain only to errors discovered in the original submissions to the Inventory when established in 1979.

Section 8(b) of the Toxic Substances Control Act (TSCA) requires EPA to compile and keep current an Inventory of Chemical Substances in Commerce, which is a listing of chemical substances manufactured, imported, and processed for commercial purposes in the United States. The purpose of the Inventory is to define, for the purpose of TSCA, what chemical substances exist in U.S. commerce. Since the Inventory thereby performs a regulatory function by distinguishing between existing chemicals and new chemicals, it is imperative that the Inventory be accurate. However, from time to time, EPA or respondents discover that substances have been incorrectly described by reporting companies. Reported substances have been unintentionally misidentified as a result of simple typographical errors, the misidentification of substances, or the lack of sufficient technical or analytical information to characterize fully the exact chemical substances. EPA has developed guidelines (45 FR 50544, July 29, 1980) under which incorrectly described substances listed in the Inventory can be corrected. The correction mechanism ensures the accuracy of the Inventory without imposing an unreasonable burden on the chemical industry. Without the Inventory correction mechanism, a company that submitted incorrect information would have to file a pre-manufacture notification (PMN) under TSCA section 5 to place the correct chemical substance on the Inventory whenever the previously reported substance is found to be misidentified. This would impose a much greater burden on both EPA and the submitter than the existing correction mechanism. This information collection applies to reporting and recordkeeping activities associated with the correction of misreported chemical substances found on the TSCA Inventory.

Respondents may claim all or part of a response confidential. EPA will disclose information that is covered by a claim of confidentiality only to the extent permitted by, and in accordance with, the procedures in TSCA section 14 and 40 CFR part 2.

Form numbers: TSCA Chemical Substance Inventory Reporting Form C (EPA Form 7710-3C).

Respondents/affected entities: Manufacturers or importers of chemical substances, mixtures or categories listed on the TSCA Inventory and regulated under TSCA section 8, who had reported to EPA during the initial effort to establish the TSCA Inventory in 1979, and who need to make a correction to that submission.

Respondent's obligation to respond: Voluntary.

Total estimated number of respondents: 9.

Frequency of response: On occasion.

Total estimated burden: 39.24 hours (per year). Burden is defined at 5 CFR 1320.03(b).

Total estimated cost: $3,029.72 (per year), includes $0 annualized capital or operation & maintenance costs.

Changes in the estimates: There is increase of 19 hours in the total estimated respondent burden compared with the ICR currently approved by OMB. This increase reflects program changes in CBI substantiation requirements, as enacted in the Frank R Lautenberg Chemical Safety Act for the 21st Century, which amended TSCA in 2016. This change is the result of a program change.

Courtney Kerwin,
Director, Collection Strategies Division.

[FR Doc. 2018-13545 Filed 6-22-18; 8:45 am]

BILLING CODE 6560-50-P